ENVIRONMENTAL PROTECTION AGENCY

40 CFR Part 52

[EPA-R08-OAR-2015-0149; FRL-9931-73-Region 8 ]

Air Plan Approval; CO; Revised Format for Material Incorporated by Reference

AGENCY: Environmental Protection Agency (EPA).

ACTION: Final rule; administrative change.

SUMMARY: The Environmental Protection Agency (EPA) is revising the format of materials submitted by the state of Colorado that are incorporated by reference (IBR) into its State Implementation Plan (SIP). The regulations affected by this format change have all been previously submitted by Colorado and approved by the EPA.

DATES: This action is effective September 28, 2015.

ADDRESSES: The EPA has established a docket for this action under Docket Identification Number EPA-R08-OAR-2015-0149. All documents in the docket are listed on the http://www.regulations.gov Web site. Although listed in the index, some information may not be publicly available, i.e., Confidential Business Information or other information the disclosure of which is restricted by statute. Certain other material, such as copyrighted material, is not placed on the Internet and will be publicly available only in the hard copy form. Publicly available docket materials are available either electronically through http://www.regulations.gov or in hard copy at EPA Region 8, Office of Partnership and Regulatory Assistance, Air Program, 1595 Wynkoop Street, Denver, Colorado, 80202-1129. The EPA requests that you contact the individual listed in the FOR FURTHER INFORMATION CONTACT section to view the hard copy of the docket. An electronic copy of the state's SIP compilation is also available at http://www.epa.gov/region8/air/sip.html.

FOR FURTHER INFORMATION CONTACT: Kathy Ayala, Air Program, U.S. Environmental Protection Agency (EPA), Region 8, Mailcode 8P-AR, 1595 Wynkoop Street, Denver, Colorado 80202-1129, (303) 312-6142, ayala.kathy@epa.gov.

SUPPLEMENTARY INFORMATION:

I. Change in IBR Format

This format revision will affect the “Identification of plan” section of 40 CFR part 52, as well as the format of the SIP materials that will be available for public inspection at the National Archives and Records Administration (NARA); the Air and Radiation Docket and Information Center located at EPA Headquarters in Washington, DC, and the EPA Region 8 Office.

A. Description of a SIP

Each state has a SIP containing the control measures and strategies used to attain and maintain the national ambient air quality standards (NAAQS) and achieve certain other Clean Air Act (Act) requirements (e.g., visibility requirements, prevention of significant deterioration). The SIP is extensive, containing such elements as air pollution control regulations, emission inventories, monitoring network descriptions, attainment demonstrations, and enforcement mechanisms.

B. How EPA Enforces the SIP

Each SIP revision submitted by Colorado must be adopted at the state level after undergoing reasonable notice and public hearing. SIPs submitted to EPA to attain or maintain the NAAQS must include enforceable emission limitations and other control measures, schedules and timetables for compliance.

EPA evaluates submitted SIPs to determine if they meet the Act's requirements. If a SIP meets the Act's requirements, EPA will approve the SIP. EPA's notice of approval is published in the Federal Register and the approval is then codified at 40 CFR part 52. Once EPA approves a SIP, it is enforceable by EPA and citizens in federal district court.

We do not reproduce in 40 CFR part 52 the full text of the Colorado regulations that we have approved. Instead, we incorporate them by reference or IBR. We approve a given state regulation with a specific effective date and then refer the public to the location(s) of the full text version of the state regulation(s) should they want to know which measures are contained in a given SIP (see I.F., Where You Can Find a Copy of the SIP Compilation).

C. How the State and EPA Update the SIP

The SIP is a dynamic document which the state can revise as necessary to address the unique air pollution problems in the state. Therefore, EPA from time to time must take action on SIP revisions containing new and/or revised regulations.

On May 22, 1997 (62 FR 27968), EPA announced revised procedures for IBR of federally approved SIPs. The procedures announced included: (1) A new process for IBR of material submitted by states into compilations and a process for updating those compilations on roughly an annual basis; (2) a revised mechanism for announcing EPA approval of revisions to an applicable SIP and updating both the compilations and the CFR; and, (3) a revised format for the “Identification of plan” sections for each applicable subpart to reflect these revised IBR procedures.

D. How EPA Compiles the SIP

We have organized into a compilation the federally-approved regulations, source-specific requirements and nonregulatory provisions we have approved into the SIP. These compilations may be found at http://www.epa.gov/region8/air/sip.html. In addition, we maintain hard copies of the compilation which are updated periodically.

E. How EPA Organizes the SIP Compilation

Each compilation contains three parts. Part one contains the state regulations that have been approved, part two contains the source-specific requirements that have been approved as part of the SIP (if any), and part three contains non-regulatory provisions that have been approved. Each compilation contains a table of identifying information for each regulation, each source-specific requirement, and each nonregulatory provision. The state effective dates in the tables indicate the date of the most recent revision to a particular approved regulation. The table of identifying information in the compilation corresponds to the table of contents published in 40 CFR part 52 for the state. The EPA Regional Offices have the primary responsibility for ensuring accuracy and updating the compilations.

F. Where You Can Find a Copy of the SIP Compilation

EPA Region 8 developed and will maintain the compilation for Colorado. An electronic copy of the compilation is contained at http://www.epa.gov/region8/air/sip.html. SIP Materials which are incorporated by reference into 40 CFR part 52 are also available for inspection at the following locations: Air and Radiation Docket and Information Center, U.S. Environmental Protection Agency, EPA West Building, Room 3334, 1301 Constitution Ave. NW., Washington, DC 20460 or the National Archives and Records Administration (NARA). For information on the availability of this material at NARA, call (202) 741-6030, or go to: http://www.archives.gov/federal-register/cfr/ibr-locations.html.

G. The Format of the New Identification of Plan Section

In order to better serve the public, EPA has revised the organization of the “Identification of plan” section in 40 CFR part 52 and included additional information to clarify the elements of the SIP.

The revised Identification of plan section for Colorado contains five subsections:

1. Purpose and scope (see 40 CFR 52.320(a));

2. Incorporation by reference (see 40 CFR 52.320(b));

3. EPA-approved regulations (see 40 CFR 52.320(c));

4. EPA-approved source-specific requirements (see 40 CFR 52.320(d)); and,

5. EPA-approved nonregulatory provisions such as transportation control measures, statutory provisions, control strategies, monitoring networks, etc. (see 40 CFR 52.320(e)).

H. When a SIP Revision Becomes Federally Enforceable

All revisions to the applicable SIP are federally enforceable as of the effective date of EPA's approval of the respective revision. In general, SIP revisions become effective 30 to 60 days after publication of EPA's SIP approval action in the Federal Register. In specific cases, a SIP revision action may become effective less than 30 days or greater than 60 days after the Federal Register publication date. In order to determine the effective date of EPA's approval for a specific Colorado SIP provision that is listed in 40 CFR 52.320(c), (d), or (e), consult the volume and page of the Federal Register cited in 40 CFR 52.320 for that particular provision.

I. The Historical Record of SIP Revision Approvals

To facilitate enforcement of previously approved SIP provisions and to provide a smooth transition to the new SIP processing system, we are retaining the original Identification of plan section (40 CFR 52.354). This section previously appeared at 40 CFR 52.320. After an initial two-year period, we will review our experience with the new table format and will decide whether to retain the original identification of plan section (40 CFR 52.354) for some further period.

II. What EPA is doing in this action?

This action constitutes a “housekeeping” exercise to reformat the codification of the EPA-approved Colorado SIP.

III. Good Cause Exemption

EPA has determined that this action falls under the “good cause” exemption in section 553(b)(3)(B) of the Administrative Procedure Act (APA) which, upon a finding of “good cause” authorizes agencies to dispense with public participation, and section 553(d)(3), which allows an agency to make a rule effective immediately (thereby avoiding the 30-day delayed effective date otherwise provided for in the APA). This action simply reformats the codification of provisions which are already in effect as a matter of law.

Under section 553 of the APA, an agency may find good cause where procedures are “impractical, unnecessary, or contrary to the public interest.” Public comment is “unnecessary” and “contrary to the public interest” since the codification only reflects existing law. Likewise, there is no purpose served by delaying the effective date of this action.

In this rule, EPA is finalizing regulatory text that includes incorporation by reference. In accordance with requirements of 1 CFR 51.5, EPA is finalizing the incorporation by reference of the Colorado regulations described in the amendments to 40 CFR part 52 set forth below. EPA has made, and will continue to make, these documents generally available electronically through www.regulations.gov and/or in hard copy at the appropriate EPA office (see the ADDRESSES section of this preamble for more information).

IV. Statutory and Executive Order Reviews

A. General Requirements

Under Executive Order 12866 (58 FR 51735, October 4, 1993), this action is not a “significant regulatory action” and is therefore not subject to review by the Office of Management and Budget. This rule is not subject to Executive Order 13211, “Actions Concerning Regulations That Significantly Affect Energy Supply, Distribution, or Use” (66 FR 28355, May 22, 2001) because it is not a significant regulatory action under Executive Order 12866. Because the agency has made a “good cause” finding that this action is not subject to notice-and-comment requirements under the Administrative Procedure Act or any other statute as indicated in the SUPPLEMENTARY INFORMATION section, it is not subject to the regulatory flexibility provisions of the Regulatory Flexibility Act (5 U.S.C. 601 et seq.), or to sections 202 and 205 of the Unfunded Mandates Reform Act of 1995 (UMRA) (Pub. L. 104-4). In addition, this action does not significantly or uniquely affect small governments or impose a significant intergovernmental mandate, as described in sections 203 and 204 of UMRA. This rule also does not have a substantial direct effect on one or more Indian tribes, on the relationship between the federal government and Indian tribes, or on the distribution of power and responsibilities between the federal government and Indian tribes, as specified by Executive Order 13175 (65 FR 67249, November 9, 2000), nor will it have substantial direct effects on the states, on the relationship between the national government and the states, or on the distribution of power and responsibilities among the various levels of government, as specified in Executive Order 13132 (64 FR 43255, August 10, 1999). This rule also is not subject to Executive Order 13045 (62 FR 19885, April 23, 1997), because it is not economically significant. This rule does not involve technical standards; thus the requirements of section 12(d) of the National Technology Transfer and Advancement Act of 1995 (15 U.S.C. 272 note) do not apply. The rule also does not involve special consideration of environmental justice related issues as required by Executive Order 12898 (59 FR 7629, February 16, 1994). This rule does not impose an information collection burden under the Paperwork Reduction Act of 1995 (44 U.S.C. 3501 et seq.). EPA's compliance with these statutes and Executive Orders for the underlying rules are discussed in previous actions taken on the state's rules.

B. Submission to Congress and the Comptroller General

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. This action simply codifies provisions which are already in effect as a matter of law in federal and approved state programs. 5 U.S.C. 808(2). As stated previously, EPA has made such a good cause finding and established an effective date of September 28, 2015. EPA will submit a report containing this rule and other required information to the U.S. Senate, the U.S. House of Representatives, and the Comptroller General of the United States prior to publication of the rule in the Federal Register. This change to the identification of plan for Colorado is not a “major rule” as defined by 5 U.S.C. 804(2).

C. Petitions for Judicial Review

EPA has also determined that the provisions of section 307(b)(1) of the Clean Air Act pertaining to petitions for judicial review are not applicable to this action. Prior EPA rulemaking actions for each individual component of the Colorado SIP compilation had previously afforded interested parties the opportunity to file a petition for judicial review in the United States Court of Appeals for the appropriate circuit within 60 days of such rulemaking action. Thus, EPA sees no need in this action to reopen the 60-day period for filing such petitions for judicial review for this “Identification of plan” reorganization action for Colorado.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: July 10, 2015.
Shaun L. McGrath,
Regional Administrator, Region 8.

40 CFR part 52 is amended to read as follows:

PART 52—APPROVAL AND PROMULGATION OF IMPLEMENTATION PLANS

1. The authority citation for part 52 continues to read as follows:

Authority: 42 U.S.C. 7401 et seq.

Subpart G—Colorado

§ 52.320 [Redesignated as § 52.354]

2. Section 52.320 is redesignated as § 52.354, and in newly redesignated § 52.354, revise the section heading and paragraph (a) to read as follows:

§ 52.354 Original identification of plan.

(a) This section identifies the original “Air Implementation Plan for the State of Colorado” and all revisions submitted by Colorado that were federally approved prior to June 1, 2015.

* * * * *

3. Add § 52.320 to read as follows:

§ 52.320 Identification of plan.

(a) Purpose and scope. This section sets forth the applicable State Implementation Plan for Colorado under section 110 of the Clean Air Act, 42 U.S.C. 7410 and 40 CFR part 51 to meet national ambient air quality standards or other requirements under the Clean Air Act.

(b) Incorporation by reference. (1) Material listed in paragraphs (c) and (d) of this section with an EPA approval date prior to June 1, 2015, was approved for incorporation by reference by the Director of the Federal Register in accordance with 5 U.S.C. 552(a) and 1 CFR part 51. Material is incorporated as submitted by the state to EPA, and notice of any change in the material will be published in the Federal Register. Entries for paragraphs (c) and (d) of this section with EPA approval dates after June 1, 2015, will be incorporated by reference in the next update to the SIP compilation.

(2) EPA Region 8 certifies that the rules/regulations provided by EPA in the SIP compilation at the addresses in paragraph (b)(3) of this section are an exact duplicate of the officially promulgated state rules/regulations which have been approved as part of the State Implementation Plan as of June 1, 2015.

(3) Copies of the materials incorporated by reference may be inspected at the Environmental Protection Agency, Region 8, 1595 Wynkoop Street, Denver, Colorado, 80202-1129; Air and Radiation Docket and Information Center, U.S. Environmental Protection Agency, West Building, 1301 Constitution Ave. NW., Washington, DC 20460; and, the National Archives and Records Administration (NARA). For information on the availability of materials from the docket in the EPA Headquarters Library, please call the Office of Air and Radiation (OAR) at (202) 566-1742. For information on the availability of this material at NARA, call (202) 741-6030, or go to http://www.archives.gov/federal-register/cfr/ibr-locations.html. Copies of the Colorado regulations we have approved are also available at http://www.epa.gov/region8/air/sip.html.

(c) EPA-approved regulations.

Title | State effective date | EPA Effective date | Final rule citation/date | Comments
5 CCR 1001-01, Procedural Rules
State Implementation Plan | 3/30/1998 | 5/10/2012 | 77 FR 21451, 04/10/12
5 CCR 1001-02, Common Provisions Regulation
I. Definitions, Statement of Intent, and General Provisions Applicable to all Emission Control Regulations adopted by the Colorado Air Quality Control Commission | 9/30/2002 | 4/29/2013 | 78 FR 19125, 03/29/13
II. General | 9/30/2002 | 4/29/2013 | 78 FR 19125, 03/29/13
5 CCR 1001-03, Regulation Number 1, Emission Control for Particulate Matter, Smoke, Carbon Monoxide, and Sulfur Oxides
Definitions | 10/2/2005 | 2/17/2012 | 77 FR 2466, 01/18/12
I. Applicability: Referenced Federal Regulations | 10/2/2005 | 2/17/2012 | 77 FR 2466, 01/18/12
II. Smoke and Opacity | 10/2/2005 | 2/17/2012 | 77 FR 2466, 01/18/12
III. Particulate Matter | 10/2/2005 | 2/17/2012 | 77 FR 2466, 01/18/12
IV. Continuous Emission Monitoring Requirements for New or Existing Sources | 10/2/2005 | 2/17/2012 | 77 FR 2466, 01/18/12
V. Emission Standards for Existing Iron and Steel Plant Operations | 10/2/2005 | 2/17/2012 | 77 FR 2466, 01/18/12
VI. Sulfur Dioxide Emission Regulations | 10/2/2005 | 2/17/2012 | 77 FR 2466, 01/18/12
VII. Emission Regulations for Certain Electric Generating Stations Owned and Operated by the Public Service Company of Colorado | 10/2/2005 | 2/17/2012 | 77 FR 2466, 01/18/12
VIII. Restrictions on the Use of Oil as a Backup Fuel | 10/2/2005 | 2/17/2012 | 77 FR 2466, 01/18/12
IX. Emission Regulations Concerning Areas Which Are Nonattainment for Carbon Monoxide—Refinery Fluid Bed Catalytic Cracking Units: | 10/2/2005 | 2/17/2012 | 77 FR 2466, 01/18/12
Appendix A, Method of Measuring Opacity from Fugitive Particulate Emission Sources | 5/30/1982 | 1/2/1987 | 51 FR 43609, 12/03/86
Appendix B, Method of Measurement of Off-Property Transport of Fugitive Particulate Emissions | 5/30/1982 | 1/2/1987 | 51 FR 43609, 12/03/86
5 CCR 1001-05, Regulation Number 3, Part A, Concerning General Provisions Applicable to Reporting and Permitting
I. Applicability | 12/15/2010 | 5/27/2014 | 79 FR 22772, 04/24/14
II. Air Pollutant Emission Notice (APEN) Requirements | 4/30/2008 | 3/17/2014 | 79 FR 8632, 02/13/14 | Except II.D.1.sss., II.D.1.ttt., II.D.1.xxx., II.D.1.ffff. and Section VI.D.1.
III. Administrative Permit Amendment Procedures | 4/30/2008 | 3/17/2014 | 79 FR 8632, 02/13/14
IV. Operational Flexibility | 4/30/2008 | 3/17/2014 | 79 FR 8632, 02/13/14
V. Certification And Trading Of Emission Reduction Credits Offset And Netting Transactions | 4/30/2008 | 3/17/2014 | 79 FR 8632, 02/13/14
VI. Fees | 12/15/2010 | 5/27/2014 | 79 FR 22772, 04/24/14
VII. Confidential Information or Data Contained in Air Pollutant Emission Notices, Permit Applications, or Reports Submitted Pursuant to Part C, Section V.C.6 | 4/30/2008 | 3/17/2014 | 79 FR 8632, 02/13/14
VIII. Technical Modeling and Monitoring Requirements | 4/30/2008 | 3/17/2014 | 79 FR 8632, 02/13/14
Appendix A, Method For Determining De Minimis Levels For Non-Criteria Reportable Pollutants | 4/30/2008 | 3/17/2014 | 79 FR 8632, 02/13/14
Appendix B, Non-criteria Reportable Pollutants (Sorted by BIN) | 4/30/2008 | 3/17/2014 | 79 FR 8632, 02/13/14
5 CCR 1001-05, Regulation Number 3, Part B, Concerning Construction Permits
I. Applicability | 4/30/2008 | 3/17/2014 | 79 FR 8632, 02/13/14
II. General Requirements For Construction Permits | 12/15/2010 | 5/27/2014 | 79 FR 22772, 04/24/14
III. Construction Permit Review Procedures | 4/30/2008 | 3/17/2014 | 79 FR 8632, 02/13/14
5 CCR 1001-05, Regulation Number 3, Part D, Concerning Major Stationary Source New Source Review and Prevention of Significant Deterioration
I. Applicability | 4/30/2008 | 3/17/2014 | 79 FR 8632, 02/13/14
II. Definitions | 12/15/2010 | 5/27/2014 | 79 FR 22772, 04/24/14
III. Permit Review Procedures | 4/30/2008 | 3/17/2014 | 79 FR 8632, 02/13/14
IV. Public Comment Requirements | 4/30/2008 | 3/17/2014 | 79 FR 8632, 02/13/14
V. Requirements Applicable to Nonattainment Areas | 4/30/2008 | 3/17/2014 | 79 FR 8632, 02/13/14
VI. Requirements applicable to attainment and unclassifiable areas and pollutants implemented under Section 110 of the Federal Act (Prevention of Significant Deterioration Program) | 4/30/2008 | 3/17/2014 | 79 FR 8632, 02/13/14
VII. Negligibly Reactive Volatile Organic Compounds (NRVOCs) | 4/30/2008 | 3/17/2014 | 79 FR 8632, 02/13/14
VIII. Area Classifications | 4/30/2008 | 3/17/2014 | 79 FR 8632, 02/13/14
IX. Redesignation | 4/30/2008 | 3/17/2014 | 79 FR 8632, 02/13/14
X. Air Quality Limitations | 4/30/2008 | 3/17/2014 | 79 FR 8632, 02/13/14
XI. Exclusions From Increment Consumption | 4/30/2008 | 3/17/2014 | 79 FR 8632, 02/13/14
XII. Innovative Control Technology | 4/30/2008 | 3/17/2014 | 79 FR 8632, 02/13/14
XIII. Federal Class I Areas | 4/30/2008 | 3/17/2014 | 79 FR 8632, 02/13/14
XIV. Visibility | 2/14/2011 | 1/30/2013 | 77 FR 76871, 12/31/12
XV. Actuals PALs | 4/30/2008 | 3/17/2014 | 79 FR 8632, 02/13/14
5 CCR 1001-05, Regulation Number 3, Part F, Regional Haze Limits—Best Available Retrofit Technology (BART) and Reasonable Progress (RP)
VI. Regional Haze Determinations | 2/14/2011 | 1/30/2013 | 77 FR 76871, 12/31/12
VII. Monitoring, Recordkeeping, and Reporting for Regional Haze Limits | 2/14/2011 | 1/30/2013 | 77 FR 76871, 12/31/12
5 CCR 1001-06, Regulation Number 4, New Wood Stoves and the Use of Certain Woodburning Appliances During High Pollution Days
I. Definitions | 8/30/1993 | 5/19/1997 | 62 FR 18716, 04/17/97
II. Requirements for Sale and Installation of Wood Stoves | 8/30/1993 | 5/19/1997 | 62 FR 18716, 04/17/97
III. Approval Procedure for Pellet Stoves | 8/30/1993 | 5/19/1997 | 62 FR 18716, 04/17/97
IV. Enforcement | 8/30/1993 | 5/19/1997 | 62 FR 18716, 04/17/97
V. List of Certified Wood Stoves | 8/30/1993 | 5/19/1997 | 62 FR 18716, 04/17/97
VI. High Pollution Days | 8/30/1993 | 5/19/1997 | 62 FR 18716, 04/17/97
VII. Requirements for Installation of Fireplaces | 8/30/1993 | 5/19/1997 | 62 FR 18716, 04/17/97
VIII. Implementation of Local Control Strategies | 8/30/1993 | 5/19/1997 | 62 FR 18716, 04/17/97
IX. References | 8/30/1993 | 5/19/1997 | 62 FR 18716, 04/17/97
5 CCR 1001-08, Regulation Number 6, Standards of Performance for New Stationary Sources
IV. Standards of Performance for New Sources of Sulfur Dioxide | 3/30/1981 | 1/6/1982 | 46 FR 59536, 12/07/81
5 CCR 1001-09, Regulation Number 7, Control of Ozone Via Ozone Precursors (Emissions of Volatile Organic Compounds and Nitrogen Oxides)
I. Applicability | 1/30/2009 | 9/6/2011 | 76 FR 47443, 08/05/11 | Except sections I.A.1.b, I.B.1.b, I.B.2.b, I.B.2.d
II. General Provisions | 1/30/2009 | 9/6/2011 | 76 FR 47443, 08/05/11 | Except sections II.A.12, II.C.1, and II.D.
III. General Requirements for Storage and Transfer of Volatile Organic Compounds | 1/30/2009 | 9/6/2011 | 76 FR 47443, 08/05/11
IV. Storage of Highly Volatile Organic Compounds | 1/30/2009 | 9/6/2011 | 76 FR 47443, 08/05/11
V. Disposal of Volatile Organic Compounds | 1/30/2009 | 9/6/2011 | 76 FR 47443, 08/05/11
VI. Storage and Transfer of Petroleum Liquid | 1/30/2009 | 9/6/2011 | 76 FR 47443, 08/05/11
VII. Crude Oil | 1/30/2009 | 9/6/2011 | 76 FR 47443, 08/05/11
VIII. Petroleum Processing and Refining | 1/30/2009 | 9/6/2011 | 76 FR 47443, 08/05/11
IX. Surface Coating Operations | 1/30/2009 | 9/6/2011 | 76 FR 47443, 08/05/11
X. Use of Solvents for Degreasing and Cleaning | 1/30/2009 | 9/6/2011 | 76 FR 47443, 08/05/11
XI. Use of Cutback Asphalt | 1/30/2009 | 9/6/2011 | 76 FR 47443, 08/05/11
XII. Volatile Organic Compound Emissions From Oil and Gas Operations | 3/4/2007 | 3/4/2007 | 73 FR 8194, 02/13/08
XIII. Graphic Arts | 1/30/2009 | 9/6/2011 | 76 FR 47443, 08/05/11
XIV. Pharmaceutical Synthesis | 1/30/2009 | 9/6/2011 | 76 FR 47443, 08/05/11
XV. Control of Volatile Organic Compound Leaks from Vapor Collection Systems and Vapor Control Systems Located at Gasoline Terminals, Gasoline Bulk Plants, and Gasoline Dispensing Facilities | 1/30/2009 | 9/6/2011 | 76 FR 47443, 08/05/11
XVI. Control of Emissions from Stationary and Portable Engines in the 8-Hour Ozone Control Area | 1/30/2009 | 9/6/2011 | 70 FR 48652, 08/05/11
XVII.E.3.a., (Regional Haze SIP) Rich Burn Reciprocating Internal Combustion Engines | 2/14/2011 | 1/30/2013 | 77 FR 76871, 12/31/12
Appendix A. Criteria for Control of Vapors from Gasoline Transfer to Storage Tanks | 10/30/1989 | 6/29/1995 | 60 FR 28055, 05/30/95
Appendix B. Criteria for Control of Vapors from Gasoline Transfer at Bulk Plants (Vapor Balance System) | 10/30/1989 | 6/20/1995 | 60 FR 28055, 05/30/95
Appendix C. Minimum Cooling Capacities for Refrigerated Freeboard Chillers on Vapor Degreasers | 5/22/1980 | 4/13/1981 | 46 FR 16687, 03/13/81
Appendix D. Test Procedures for Annual Pressure/Vacuum Testing of Gasoline Transport Tanks | 10/30/1989 | 6/29/1995 | 60 FR 28055, 05/30/95
Appendix E. Emission Limit Conversion Procedure | 10/30/1989 | 6/29/1995 | 60 FR 28055, 05/30/95
5 CCR 1001-12, Regulation Number 10, Criteria for Analysis of Conformity
I. Requirement to Comply with the Federal Rule | 1/30/2012 | 4/3/2014 | 79 FR 12079, 03/04/14
II. Definitions | 1/30/2012 | 4/3/2014 | 79 FR 12079, 03/04/14
III. Interagency Consultation | 1/30/2012 | 4/3/2014 | 79 FR 12079, 03/04/14
IV. Emission reduction credit for certain control measures | 1/30/2012 | 4/3/2014 | 79 FR 12079, 03/04/14
V. Enforceability of design concept and scope and project-level mitigation and control measures | 1/30/2012 | 4/3/2014 | 79 FR 12079, 03/04/14
5 CCR 1001-13, Regulation Number 11, Motor Vehicle Emissions Inspection Program—Part A, General Provisions, Area of Applicability, Schedules for Obtaining Certification of Emissions Control, Definitions, Exemptions, and Clean Screening/Remote Sensing
I. Applicability | 1/30/2006 | 10/16/2007 | 72 FR 46148, 08/17/07
II. Definitions | 5/31/2004 | 9/19/2005 | 70 FR 48652, 08/19/05
III. Exemption from Section 42-4-314, C.R.S. for Department of Defense Personnel Participating in the Privately Owned Vehicle Import Control Program | 5/31/2004 | 9/19/2005 | 70 FR 48652, 08/19/05
IV. Clean Screen/Remote Emissions Sensing | 1/30/2006 | 10/16/2007 | 72 FR 46148, 08/17/07
5 CCR 1001-13, Regulation Number 11, Motor Vehicle Emissions Inspection Program—Part B, Standards and Procedures for the Approval, Operation, Gas Span Adjustment, Calibration and Certification of the Division Approved Test Analyzer Systems for Use in the Basic and Enhanced Areas and Test Analyzer Systems for Licensed Dealers in the Enhanced Area
I. Approval of the Colo '94 Test Analyzer Systems | 5/31/2004 | 9/19/2005 | 70 FR 48652, 08/19/05
II. Application for Approval of Colo '94 Test Analyzer Systems Equipment Manufacturers | 5/31/2004 | 9/19/2005 | 70 FR 48652, 08/19/05
III. Performance and Design Specification for the Colo '94 Exhaust Gas Analyzers | 5/31/2004 | 9/19/2005 | 70 FR 48652, 08/19/05
IV. Span Gases For Use With Colo '94 Test Analyzer Systems | 5/31/2004 | 9/19/2005 | 70 FR 48652, 08/19/05
V. Documentation, Logistics, and Warranty Requirements | 5/31/2004 | 9/19/2005 | 70 FR 48652, 08/19/05
VI. Calibration of Colorado '94 Test Analyzer Systems | 5/31/2004 | 9/19/2005 | 70 FR 48652, 08/19/05
VII. Approval of the Colorado Automobile Dealers Transient Mode Test Analyzer System | 5/31/2004 | 9/19/2005 | 70 FR 48652, 08/19/05
VIII. Applications for Approval of the Colorado Automobile Dealers Transient Mode Test Analyzer System | 5/31/2004 | 9/19/2005 | 70 FR 48652, 08/19/05
IX. Requests for Approval of Clean Screen Test Analyzer Systems | 5/31/2004 | 9/19/2005 | 70 FR 48652, 08/19/05
5 CCR 1001-13, Regulation Number 11, Motor Vehicle Emissions Inspection Program—Part C, Inspection Procedures and Requirements for Exhaust Emissions, Fuel Evaporation Control, Visible Smoke Emissions, Emissions Control Systems, Chlorofluorocarbon Leak Detection; and Practices to Ensure Proper Emissions Related Adjustments and Repairs
I. Pre-inspection Requirements | 5/31/2004 | 9/19/2005 | 70 FR 48652, 08/19/05
II. Exhaust Emissions Inspection Procedures | 5/31/2004 | 9/19/2005 | 70 FR 48652, 08/19/05
III. Emissions Control Systems Inspection Procedures | 5/31/2004 | 9/19/2005 | 70 FR 48652, 08/19/05
IV. Evaporative Fuel Control Inspection Procedures | 5/31/2004 | 9/19/2005 | 70 FR 48652, 08/19/05
V. Detection of Chlorofluorocarbons | 5/31/2004 | 9/19/2005 | 70 FR 48652, 08/19/05
VI. Free Reinspection | 5/31/2004 | 9/19/2005 | 70 FR 48652, 08/19/05
VII. Repair Information | 5/31/2004 | 9/19/2005 | 70 FR 48652, 08/19/05
VIII. Certification of Emissions Control | 5/31/2004 | 9/19/2005 | 70 FR 48652, 08/19/05
IX. Adjustment Procedures | 5/31/2004 | 9/19/2005 | 70 FR 48652, 08/19/05
X. Emissions Related Repairs | 5/31/2004 | 9/19/2005 | 70 FR 48652, 08/19/05
XI. Engine Changes | 5/31/2004 | 9/19/2005 | 70 FR 48652, 08/19/05
XII. Clean Screen Inspection Program Procedures | 5/31/2004 | 9/19/2005 | 70 FR 48652, 08/19/05
5 CCR 1001-13, Regulation Number 11, Motor Vehicle Emissions Inspection Program—Part D, Qualification and Licensing of Emissions Mechanics, Emissions Inspectors and Clean Screen Inspectors; Licensing of Emissions Inspection and Readjustment Stations, Inspection-Only Stations, Inspection-Only Facilities, Fleets, Motor Vehicle Dealer Test Facilities and Enhanced Inspection Centers; Qualification of Clean Screen Inspection Sites; and Registration of Emissions Related Repair Facilities and Technicians
I. Licensing of Emissions Inspection and Readjustment Stations, Inspection-Only Stations, Inspection-Only Facilities, Enhanced Inspection Centers, Fleet Inspection Stations and Motor Vehicle Dealer Test Facilities | 5/31/2004 | 9/19/2005 | 70 FR 48652, 08/19/05
II. Qualification and Licensing of Emission Mechanics, and Emissions Inspectors | 5/31/2004 | 9/19/2005 | 70 FR 48652, 08/19/05
III. Registration of Emissions Related Repair Facilities | 5/31/2004 | 9/19/2005 | 70 FR 48652, 08/19/05
IV. Requirements for Clean Screen/Remote Sensing Sites | 5/31/2004 | 9/19/2005 | 70 FR 48652, 08/19/05
V. Qualification of Clean Screen Emissions Inspectors | 5/31/2004 | 9/19/2005 | 70 FR 48652, 08/19/05
VI. Requalification Requirements for all Clean Screen Emissions Inspectors | 5/31/2004 | 9/19/2005 | 70 FR 48652, 08/19/05
VII. Transmittal of Letters of Qualification and Issuance of Clean Screen Inspector Licenses | 5/31/2004 | 9/19/2005 | 70 FR 48652, 08/19/05
VIII. Lapse of Certificate of Qualification for Clean Screen Inspector | 5/31/2004 | 9/19/2005 | 70 FR 48652, 08/19/05
IX. Program License Application Performance Review Criteria | 5/31/2004 | 9/19/2005 | 70 FR 48652, 08/19/05
5 CCR 1001-13, Regulation Number 11, Motor Vehicle Emissions Inspection Program—Part E, Prohibited Acts and Penalties to Ensure Proper Inspection Procedures, Adherence to Prescribed Procedures and Effective Emissions Related Repairs
I. The Grounds Upon Which The License Of An Emissions Mechanic, Emissions Inspector Or Any Type Of AIR Program Inspection Business May Be Suspended, For A Period Of Time Not Less Than Six Months, Or Revoked | 5/31/2004 | 9/19/2005 | 70 FR 48652, 08/19/05
5 CCR 1001-13, Regulation Number 11, Motor Vehicle Emissions Inspection Program—Part F, Maximum Allowable Emissions Limits for Motor Vehicle Exhaust, Evaporative and Visible Emissions for Light-Duty and Heavy-Duty Vehicles
I. The Idle Short Test Concentration Limits For Light-Duty Vehicles And Heavy-Duty Trucks Specified In Sections I (A) And II (A) Respectively Of This Part F Are Those Necessary To Comply With Emissions Reductions As The Program Matures | 5/31/2004 | 9/19/2005 | 70 FR 48652, 08/19/05
II. Heavy-Duty Vehicles (1978 and Earlier Greater Than 6000 lbs. GVWR) Subject to Idle Short Test(s) | 5/31/2004 | 9/19/2005 | 70 FR 48652, 08/19/05
III. Transient Test Mass Emissions Limits In Grams/Mile (GPM) | 1/30/2006 | 1/22/2013 | 77 FR 75388, 12/20/12
IV. Evaporative Emissions Control Standards | 5/31/2004 | 9/19/2005 | 70 FR 48652, 08/19/05
V. Vehicles shall not exhibit any continuous gray, blue, blue-black, or black smoke of greater than 5% opacity from the engine crankcase and/or tailpipe(s) during any engine operating conditions of applicable inspection procedures | 5/31/2004 | 9/19/2005 | 70 FR 48652, 08/19/05
VI. Clean Screen Program Maximum Allowable Emissions Limits | 5/31/2004 | 9/19/2005 | 70 FR 48652, 08/19/05
5 CCR 1001-13, Regulation Number 11, Appendices
Appendix A, Specifications for Colorado 94 Analyzer | 5/31/2004 | 9/19/2005 | 70 FR 48652, 08/19/05
Appendix B, Standards and Specifications for the Suppliers of Span and Calibration Gases | 5/31/2004 | 9/19/2005 | 70 FR 48652, 08/19/05
5 CCR 1001-14, Emission Budgets for Nonattainment Areas in the State of Colorado
Budgets | 8/30/1995 | 4/30/1998 | 63 FR 15294, 03/31/98
5 CCR 1001-18, Regulation Number 16, Street Sanding Emissions
I. Street Sanding Materials Specifications | 4/19/2001 | 10/16/2002 | 67 FR 58335, 09/16/02
II. Street Sanding Requirements Specific to the Denver PM-10 Attainment/Maintenance Area | 4/19/2001 | 10/16/2002 | 67 FR 58335, 09/16/02
5 CCR 1001-20, Nonattainment-Attainment/Maintenance Areas
I. Pagosa Springs Attainment/Maintenance Area | 5/30/2000 | 8/14/2001 | 66 FR 32556, 06/15/01
II. Telluride Attainment/Maintenance Area | 5/30/2000 | 8/14/2001 | 66 FR 32556, 06/15/01
III. Aspen/Pitkin County PM-10 Attainment/Maintenance Area | 2/28/2001 | 7/14/2003 | 68 FR 26212, 05/15/03
IV. Lamar Attainment/Maintenance Area | 12/30/2001 | 11/25/2005 | 70 FR 61563, 10/25/05
V. Canon City PM-10 Nonattainment Area | 12/30/1993 | 2/13/1995 | 59 FR 64332, 12/14/94
VIII. Steamboat Springs PM10 Attainment/Maintenance Area | 11/24/2004 | 12/30/2001 | 69 FR 62210, 10/25/04

(d) EPA-approved source-specific requirements.

Title | State effective date | EPA effective date | Final rule citation/date | Comments
Long-Term Strategy Review and Revision of Colorado's State Implementation Plan for Class I Visibility Protection: Part I: Hayden Station Requirements | 8/15/1996 | 2/18/1997 | 62 FR 2305, 01/16/97
Revision of Colorado's State Implementation Plan for Class I Visibility Protection Craig Station Units 1 and 2 Requirements | 4/19/2001 | 8/6/2001 | 66 FR 35374, 07/05/01

(e) EPA-approved nonregulatory provisions.

Title | State effective date | EPA effective date | Final rule citation/date | Comments
Legislation
Concerning Air Pollution Control, and, in connection therewith, revising the Air Program to comply with requirements of the Federal “Clean Air Act Amendments of 1990” | 7/1/1993 | 12/8/1994 | 59 FR 55584, 11/08/94
Concerning Legislative Procedures for the Approval of State Implementation Plans and Regulations Related to Air Pollution | 5/31/1995 | 4/30/1998 | 63 FR 15294, 03/31/98
Maintenance Plans
Aspen
Revised PM10 Maintenance Plan for the Aspen Attainment/Maintenance Area | 12/16/2010 | 11/18/2013 | 78 FR 57496, 09/19/13
Canon City
PM10 Maintenance Plan for Canon City | 11/20/2008 | 9/9/2013 | 78 FR 41307, 07/10/13
Colorado Springs
Colorado Springs Carbon Monoxide Maintenance Plan | 12/17/2009 | 9/30/2013 | 78 FR 46521, 08/01/13
Denver Metropolitan Area
1982 Denver Regional Element of the State Air Quality Implementation Plan | 3/4/2001 | 10/11/2001 | 66 FR 47086, 09/11/01
Carbon Monoxide Maintenance Plan for the Denver Metropolitan Area | 8/30/2003 | 11/15/2004 | 69 FR 55752, 09/16/04
Ozone Redesignation Request and Maintenance Plan for the Denver Metropolitan Area | 1/11/2001 | 10/11/2001 | 66 FR 47086, 09/11/01
PM10 Redesignation Request and Maintenance Plan For the Denver Metropolitan Area | 4/19/2001 | 10/16/2002 | 67 FR 58335, 09/16/02
Revision to the Colorado State Implementation Plan: Concerning the removal of the Colorado Clean Vehicle Fleet Program from the SIP, and the adoption of a replacement program | 3/1/2000 | 1/14/2002 | 66 FR 64751, 12/14/01
Early Action Compact Ozone Action Plan | 5/31/2004 | 9/19/2005 | 70 FR 48652, 08/19/05
Fort Collins
Revised Carbon Monoxide Maintenance Plan, Fort Collins Attainment/Maintenance Area | 12/16/2010 | 11/12/2013 | 78 FR 56164, 09/12/13
Greeley
Greeley Carbon Monoxide Maintenance Plan | 12/17/2009 | 10/1/2013 | 78 FR 46816, 08/02/13
Lamar
PM10 Redesignation Request and Maintenance Plan for the Lamar Area | 12/30/2001 | 11/25/2005 | 70 FR 61563, 10/25/05
Longmont
Revised Carbon Monoxide Maintenance Plan for the Longmont Attainment/Maintenance Area | 3/1/2004 | 11/29/2004 | 69 FR 58264, 09/30/04
Pagosa Springs
Final Revised PM10 Maintenance Plan for the Pagosa Springs Attainment/Maintenance Area | 11/19/2009 | 4/9/2014 | 79 FR 13256, 03/10/14
Steamboat Springs
Revised PM10 Maintenance Plan for theSteamboat Springs Attainment/Maintenance Area | 1/30/2012 | 3/23/2015 | 80 FR 2827, 01/21/15
Telluride
Revised PM10 Attainment/Maintenance Plan Telluride Attainment/Maintenance Area | 11/19/2009 | 3/13/2014 | 79 FR 8090, 02/11/14
Local Ordinances/Resolutions
Adopting the Fort Collins Better Air Campaign for Inclusion in the Fort Collins Element of the State Implementation Plan for Air Quality | 9/5/1989 | 6/17/1991 | 56 FR 15499, 04/17/91
Visibility
State Implementation Plan for Class I Visibility Protection, State of Colorado | 11/19/1987 | 10/11/1988 | 53 FR 30428, 08/12/88
Long-Term Strategy Review and Revision of Colorado's State Implementation Plan for Class I Visibility Protection, Part II: Revision of the Long-Term Strategy | 11/18/2004 | 12/4/2006 | 71 FR 64465, 11/02/06

[FR Doc. 2015-24462 Filed 9-25-15; 8:45 am]

BILLING CODE 6560-50-P